DEPARTMENT OF DEFENSE

Department of the Air Force

[Docket ID: USAF-2011-0029]

Privacy Act of 1974; System of Records

AGENCY: Department of the Air Force, DoD.

ACTION: Notice to alter a system of records.

SUMMARY: The Department of the Air Force proposes to alter a system of records in its inventory of record systems subject to the Privacy Act of 1974 (5 U.S.C. 552a), as amended.

DATES: The proposed action will be effective on February 2, 2012 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on December 21, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 28, 2011.
Aaron Siegel,
Alternate OSD Federal Register Liaison Officer, Department of Defense.

F011 AF A3 B DoD

System name:

DoD Foreign Clearance Program Records (April 6, 2007, 72 FR 17136).

* * * * *

Changes:

System Name:

Delete entry and replace with “Department of Defense (DoD) Foreign Clearance Program Records.”

* * * * *

Categories of individuals covered by the system:

Delete entry and replace with “Military, DoD civilians, and non-DoD personnel traveling under DoD sponsorship (contractors, foreign nationals and dependents), and includes temporary travelers worldwide as defined by the DoD Foreign Clearance Program.”

* * * * *

Authority for maintenance of the system:

Delete entry and replace with “10 U.S.C. 3013, Secretary of the Army; 10 U.S.C. 5013, Secretary of the Navy; 10 U.S.C. 8013, Secretary of the Air Force; 22 U.S.C. 4801, Findings and purpose; 22 U.S.C. 4802, Responsibility of Secretary of State; and 22 U.S.C. 4805, Cooperation of other Federal Agencies; Public Law 99-399, Omnibus Diplomatic Security and Antiterrorism Act of 1986; Department of Defense Directive (DODD) 4500.54E, DoD Foreign Clearance Program; and E.O. 12333, United States Intelligence Activities.”

* * * * *

Retrievability:

Delete entry and replace with “Records are retrieved using individual's name, passport numbers, and dates of travel.”

Safeguards:

Delete entry and replace with “Records are maintained in a controlled facility. Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.”

Retention and disposal:

Delete entry and replace with “Aircraft diplomatic clearance and personnel travel records are permanent. Personally Identifiable Information is deleted from the record one year after mission/travel is completed. Records are only electronic.”

System manager(s) and address:

Delete entry and replace with “Chief, DoD Foreign Clearance Program, Strategic Plans and Policy Division, Headquarters, United States Air Force, 1480 Air Force Pentagon, Washington, DC 20330-1480.”

Notification procedures:

Delete entry and replace with “Individuals seeking to determine whether information about themselves is contained in this system of records should address written inquiries to HQ USAF/A5XP, 1480 Air Force Pentagon, Washington, DC 20330-1480.

For verification purposes, individual should provide their full name, passport number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to HQ USAF/A5XP, 1480 Air Force Pentagon, Washington, DC 20330-1480.

For verification purposes, individual should provide their full name, passport number, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

F011 AF A3 B DoD

System name:

Department of Defense (DoD) Foreign Clearance Program Records.

System location:

Andrew T. McNamara Headquarters Complex, Defense Technical Information Center (DTIC), 8725 John J Kingman Road, Fort Belvoir, VA 22060-6218.

Categories of individuals covered by the system:

Military, DoD civilians, and non-DoD personnel traveling under DoD sponsorship (contractors, foreign nationals and dependents), and includes temporary travelers worldwide as defined by the DoD Foreign Clearance Program.

Categories of records in the system:

Aircraft diplomatic clearance and personnel travel requests, which may contain the individual's name; rank/pay grade; military branch or department; passport number; office address and telephone number; official and personal email address; detailed information on sites to be visited; visitation dates; and purpose of visit.

Authority for maintenance of the system:

10 U.S.C. 3013, Secretary of the Army; 10 U.S.C. 5013, Secretary of the Navy; 10 U.S.C. 8013, Secretary of the Air Force; 22 U.S.C. 4801, Findings and purpose; 22 U.S.C. 4802, Responsibility of Secretary of State; and 22 U.S.C. 4805, Cooperation of other Federal Agencies; Public Law 99-399, Omnibus Diplomatic Security and Antiterrorism Act of 1986; Department of Defense Directive (DODD) 4500.54E, DoD Foreign Clearance Program; and E.O. 12333, United States Intelligence Activities.

Purpose(s):

To provide the DoD with a web-based automated system to request, clear, and audit aircraft diplomatic and personnel travel clearances worldwide; to provide individual travelers with intelligence and travel warnings; and to provide the United States Defense Attaché and other DoD authorized officials with information necessary to verify aircraft diplomatic clearances and official travel by DoD personnel.

Routine users of records maintained in the system, including categories of users and the purpose of such uses:

In addition to those disclosures generally permitted under 5 U.S.C. 552a(b) of the Privacy Act of 1974, these records contained therein may specifically be disclosed outside the DoD as a routine use pursuant to 5 U.S.C. 552a(b)(3) as follows:

To the Department of State Regional Security Officer, U.S. Embassy officials, and foreign law enforcement and security agencies for the purpose of coordinating mission and security support for DoD travelers.

The DoD `Blanket Routine Uses' set forth at the beginning of the Air Force's compilation of systems of records notices also apply to this system.

Policies and practices for storing, retrieving, accessing, retaining, and disposing of records in the system:

Storage:

Records are maintained on electronic storage media.

Retrievability:

Records are retrieved using individual's name, passport numbers, and dates of travel.

Safeguards:

Records are maintained in a controlled facility. Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.

Retention and disposal:

Aircraft diplomatic clearance and personnel travel records are permanent. Personally Identifiable Information is deleted from the record one year after mission/travel is completed. Records are only electronic.

System manager(s) and address:

Chief, DoD Foreign Clearance Program, Strategic Plans and Policy Division, Headquarters, United States Air Force, 1480 Air Force Pentagon, Washington, DC 20330-1480.

Notification procedures:

Individuals seeking to determine whether information about themselves is contained in this system of records should address written inquiries to HQ USAF/A5XP, 1480 Air Force Pentagon, Washington, DC 20330-1480.

For verification purposes, individual should provide their full name, passport number, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system of records should address written inquiries to HQ USAF/A5XP, 1480 Air Force Pentagon, Washington, DC 20330-1480.

For verification purposes, individual should provide their full name, passport number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 37-132; 32 CFR part 806b; or may be obtained from the system manager.

Record source categories:

Information will be obtained from the individual.

Exemptions claimed for the system:

None.

[FR Doc. 2011-33662 Filed 12-30-11; 8:45 am]

BILLING CODE 5001-06-P